DEPARTMENT OF COMMERCE

National Oceanic and Atmospheric Administration

50 CFR Part 635

[Docket No. 040910261-4325-02; I.D. 072704A]

RIN 0648-AS08

Atlantic Highly Migratory Species; Atlantic Commercial Shark Management Measures; Correction

AGENCY: National Marine Fisheries Service (NMFS), National Oceanic and Atmospheric Administration (NOAA), Commerce.

ACTION: Final rule; fishing season notification; correction.

SUMMARY: This document corrects the season closure dates in a final rule published November 30, 2004. Corrections concern the first trimester season closure dates for large coastal sharks (LCS) for the Gulf of Mexico and the first trimester season closure dates for the South Atlantic.

DATES: Effective January 1, 2005.

FOR FURTHER INFORMATION CONTACT: Chris Rilling by phone: 301-713-2347 or by fax: 301-713-1917.

SUPPLEMENTARY INFORMATION: On November 30, 2004, NMFS published in the Federal Register a final rule that established the opening and closure dates of the first trimester season for the Atlantic commercial shark fishery (69 FR 69537). In that rule, the closure dates for LCS in the Gulf of Mexico and the South Atlantic in Table 1 were inverted. This document corrects that error.

Correction

Rule FR Doc. 04-26414 published on November 30, 2004 (69 FR 69537), to be effective January 1, 2005, is corrected as follows.

On page 69538, in Table 1, the first two rows are corrected to read as follows:

Species Group | Region | First Trimester Season Opening Dates | First Trimester Season Closure Dates
Large Coastal Sharks | Gulf of Mexico | January 1 - February 28, 2005, 11:30 p.m. local time | February 28, - April 30, 2005, 11:30 p.m. local time
| South Atlantic | January 1 - February 15, 2005, 11:30 p.m. local time | February 15, - April 30, 2005, 11:30 p.m. local time
* * * * * |  |  |

Authority: 16 U.S.C. 1801, et seq.

Dated: December 7, 2004.
Alan D. Risenhoover,
Acting Director, Office of Sustainable Fisheries, National Marine Fisheries Service.

[FR Doc. 04-27178 Filed 12-9-04; 8:45 am]

BILLING CODE 3510-22-S